DEPARTMENT OF THE INTERIOR

Bureau of Land Management

[CO-923-1430-ET; COC-17097, COC-17128, COC-19377]

Public Land Order No. 7648; Partial Revocation of the Executive Order Which Created Public Water Reserve No. 107; Colorado

AGENCY: Bureau of Land Management, Interior.

ACTION: Public land order.

SUMMARY: This order partially revokes an Executive Order insofar as it affects 326.28 acres of public lands withdrawn for Bureau of Land Management Public Water Reserve No. 107. This action will open 326.28 acres to surface entry under the public land laws and to nonmetalliferous location and entry under the United States Mining laws to allow for disposal.

Effective Date: January 12, 2006.

FOR FURTHER INFORMATION CONTACT: Doris E. Chelius, BLM Colorado State Office, 2850 Youngfield Street, Lakewood, Colorado 80215, 303-239-3706.

SUPPLEMENTARY INFORMATION: The lands have been and will remain open to mineral leasing and to metalliferous mining.

Order

By virtue of the authority vested in the Secretary of the Interior by Section 204 of the Federal Land Policy and Management Act of 1976, 43 U.S.C. 1714 (2000), it is ordered as follows:

1. Executive Order of April 17, 1926, which established Public Water Reserve No. 107, is hereby revoked insofar as it affects the following described lands:

New Mexico Principal Meridian

T. 35 N., R. 6 E., sec. 21, lot 6.

T. 42 N., R. 6 E., sec. 11, NW1/4SE1/4.

T. 43 N., R. 7 E., sec. 29, NE1/4SW1/4.

T. 49 N., R.12 E., sec. 8, NE1/4NE1/4.

T. 46 N., R. 3 W., sec. 21, NW1/4NW1/4; sec. 29, SW1/4NE1/4; sec. 33, lot 1.

T. 46 N., R. 4 W., sec. 24, SW1/4NE1/4.

The areas described aggregate 326.28 acres in Freemont, Gunnison, Conejos, and Saguache Counties.

2. At 9 a.m. on January 12, 2006, the lands described Paragraph 1 will be opened to operation of the public land laws generally, subject to valid existing rights, the provisions of existing withdrawals, other segregations of record, and the requirements of applicable law. All valid applications received at or prior to 9 a.m. on January 12, 2006, shall be considered as simultaneously filed at that time. Those received thereafter shall be considered in the order of filing.

3. At 9 a.m. on January 12, 2006, the lands described Paragraph 1 will be opened to nonmetalliferous location and entry under the United States mining laws subject to valid exiting rights, the provisions of existing withdrawals, other segregations of record, and the requirements of applicable law. Appropriation of any of the lands described in this order to nonmetalliferous mining under the general mining laws prior to the date and time of restoration is unauthorized. Any such attempted appropriation, including attempted adverse possession under 30 U.S.C. 38 (2000), shall vest no rights against the United States. Acts required to establish a location and to initiate a right of possession are governed by State law when not in conflict with Federal Law. The Bureau of Land Management will not intervene in disputes between rival locators over possessory rights since Congress has provided for such determinations in local courts.

Dated: October 28, 2005.
Rebecca W. Watson,
Assistant Secretary—Land and Minerals Management.

[FR Doc. E5-7255 Filed 12-12-05; 8:45 am]

BILLING CODE 4310-JB-P